SUSQUEHANNA RIVER BASIN COMMISSION

Actions Taken at September 20, 2012, Meeting

AGENCY: Susquehanna River Basin Commission.

ACTION: Notice.

SUMMARY: As part of its regular business meeting held on September 20, 2012, in Harrisburg, Pennsylvania, the Commission took the following actions: approved or tabled the applications of certain water resources projects; and took additional actions, as set forth in the Supplementary Information below.

DATES: September 20, 2012

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission Web site at www.srbc.net.

SUPPLEMENTARY INFORMATION: In addition to its related actions on projects identified in the summary above and the listings below, the following items were also presented or acted on at the business meeting: (1) Approved/ratified grants involving the Chesapeake Bay Nutrient Monitoring Program, the development of Total Maximum Daily Loads (TMDLs) studies, and the Public Water System Assistance Initiative Project with the PA Dept. of Environmental Protection; (2) amended the Water Quality Protection and Pollution Prevention Grant (known as the 106 grant); (3) authorized expansion of the SRBC Remote Water Quality Monitoring Network; (4) approved two listing agreements with Latus Commercial Realty for sale of the current headquarters building and leasing of space in the new headquarters building now under construction; (5) approved the partial waiver of application fees when a project sponsor withdraws an application prior to SRBC beginning its technical review; (6) approved a request by Talon Holdings, LLC for a conditional transfer extension related to the Hawk Valley Golf Course, Lancaster County, Pa.; and (7) approved issuance of a corrective docket to Nature's Way Purewater Systems, Inc. to correct an error misidentifying a project feature for which monitoring is required.

Project Applications Approved

The Commission approved the following project applications:

1. Project Sponsor and Facility: Borough of Adamstown, Adamstown Borough, Lancaster County, Pa. Renewal of groundwater withdrawal of up to 0.069 mgd (30-day average) from Well 4 (Docket No. 19801104).

2. Project Sponsor and Facility: Anadarko E&P Company LP (Second Fork Larrys Creek), Mifflin Township, Lycoming County, Pa. Surface water withdrawal of up to 0.200 mgd (peak day).

3. Project Sponsor and Facility: Cabot Oil & Gas Corporation (Susquehanna River), Susquehanna Depot Borough, Susquehanna County, Pa. Renewal of surface water withdrawal of up to 1.500 mgd (peak day) (Docket No. 20080908).

4. Project Sponsor and Facility: Cabot Oil & Gas Corporation (Susquehanna River), Great Bend Township, Susquehanna County, Pa. Renewal of surface water withdrawal of up to 2.000 mgd (peak day) (Docket No. 20080905).

5. Project Sponsor and Facility: Carrizo (Marcellus), LLC (Muddy Run), Gulich Township, Clearfield County, Pa. Surface water withdrawal of up to 0.720 mgd (peak day).

6. Project Sponsor and Facility: East Hempfield Township Municipal Authority, East Hempfield Township, Lancaster County, Pa. Surface water withdrawal of up to 0.070 mgd (30-day average) from S-1 (Baker Spring); and Groundwater withdrawal of up to 0.268 mgd (30-day average) from Well W-1, 0.673 mgd (30-day average) from Well W-2, 0.264 mgd (30-day average) from Well W-3, 0.321 mgd (30-day average) from Well W-4, and renewal of groundwater withdrawal of up to 0.632 mgd (30-day average) from Well W-5 (Docket No. 19810203).

7. Project Sponsor and Facility: Enerplus Resources (USA) Corporation (West Branch Susquehanna River), East Keating Township, Clinton County, Pa. Surface water withdrawal of up to 2.000 mgd (peak day).

8. Project Sponsor and Facility: EXCO Resources (PA), LLC (Larrys Creek), Mifflin Township, Lycoming County, Pa. Renewal of surface water withdrawal with modification, for a total of 0.200 mgd (peak day) (Docket No. 20080936).

9. Project Sponsor and Facility: Forest Springs Water Company, Wayne Township, Schuylkill County, Pa. Groundwater withdrawal of up to 0.075 mgd (30-day average) from Borehole BH-1, and modification to consumptive water use approval removing previous sources Spring 1 and Spring 2 and adding new source Borehole BH-1 (Docket No. 20010206).

10. Project Sponsor: Hydro Recovery-Antrim LP. Project Facility: Antrim Treatment Plant, Duncan Township, Tioga County, Pa. Modification to project features and to increase surface water withdrawal by an additional 1.152 mgd, for a total of 1.872 mgd (peak day) (Docket No. 20090902).

11. Project Sponsor and Facility: Keystone Clearwater Solutions, LLC (Lycoming Creek), Lewis Township, Lycoming County, Pa. Modification to increase surface water withdrawal, for a total of 2.125 mgd (peak day) (Docket No. 20110616).

12. Project Sponsor and Facility: Keystone Clearwater Solutions, LLC (Moshannon Creek), Snow Shoe Township, Centre County, Pa. Renewal of surface water withdrawal of up to 1.000 mgd (peak day) (Docket No. 20080946).

13. Project Sponsor and Facility: Keystone Clearwater Solutions, LLC (West Branch Susquehanna River), Goshen Township, Clearfield County, Pa. Renewal of surface water withdrawal of up to 1.000 mgd (peak day) (Docket No. 20080944).

14. Project Sponsor and Facility: Roaring Spring Water—Division of Roaring Spring Blank Book, Roaring Spring Borough, Blair County, Pa. Modification to increase consumptive water use by an additional 0.125 mgd, for a total of 0.255 mgd (peak day) (Docket No. 20120309), and to increase surface water withdrawal by an additional 0.131 mgd, for a total of 0.302 mgd (peak day) (Docket No. 20120309).

15. Project Sponsor and Facility: Talisman Energy USA Inc. (Susquehanna River), Sheshequin Township, Bradford County, Pa. Renewal of surface water withdrawal of up to 1.500 mgd (peak day) (Docket No. 20080909).

Project Applications Tabled

The following project applications were tabled by the Commission:

1. Project Sponsor and Facility: Caernarvon Township Authority, Caernarvon Township, Berks County, Pa. Application for renewal of groundwater withdrawal of up to 0.035 mgd (30-day average) from Well 6 (Docket No. 19820912).

2. Project Sponsor and Facility: EQT Production Company (Pine Creek), Porter Township, Lycoming County, Pa. Application for surface water withdrawal of up to 1.000 mgd (peak day).

3. Project Sponsor and Facility: Falling Springs Water Works, Inc. (Falling Springs Reservoir), Ransom Township, Lackawanna County, Pa. Application for surface water withdrawal of up to 0.800 mgd (peak day).

4. Project Sponsor and Facility: Gaberseck Brothers (Odin Pond 2), Keating Township, Potter County, Pa. Application for surface water withdrawal of up to 0.249 mgd (peak day).

5. Project Sponsor and Facility: Houtzdale Municipal Authority (Beccaria Springs), Gulich Township, Clearfield County, Pa. Application for surface water withdrawal of up to 10.000 mgd (peak day).

6. Project Sponsor and Facility: Southwestern Energy Production Company (Middle Lake), New Milford Township, Susquehanna County, Pa. Application for surface water withdrawal of up to 0.720 mgd (peak day).

Authority: Pub. L. 91-575, 84 Stat. 1509 et seq., 18 CFR parts 806, 807, and 808.

Dated: October 19, 2012.
Thomas W. Beauduy,
Deputy Executive Director.

[FR Doc. 2012-26877 Filed 11-1-12; 8:45 am]

BILLING CODE 7040-01-P